DEPARTMENT OF TRANSPORTATION

Federal Motor Carrier Safety Administration

[Docket No. FMCSA-2023-0267]

RIN 2126-AB56

FMCSA Registration System Modernization

AGENCY: Federal Motor Carrier Safety Administration (FMCSA), Department of Transportation (DOT).

ACTION: Notice of public meeting.

SUMMARY: FMCSA announces a public meeting to engage stakeholders, which includes motor carriers, brokers, freight forwarders, insurance companies, financial institutions, process agents, blanket companies, and third-party service providers; to get their perspective on improving the registration experience with FMCSA.

DATES: The meeting will be held on January 17, 2024, from 8 a.m. to 4 p.m. A copy of the agenda, will be available in advance of the meeting at https://www.fmcsa.dot.gov/registration/fmcsa-registration-modernization-stakeholder-day.

ADDRESSES: The meeting will be held at the DOT Headquarters Building, 1200 New Jersey Avenue SE, Washington, DC 20590-0001. Those interested in attending this public meeting must register at https://www.fmcsa.dot.gov/registration/fmcsa-registration-modernization-stakeholder-day by 11:59 p.m. eastern standard time (EST), on January 8, 2024. Attendance is limited to 90 people. Attendees should arrive by 8:00 a.m. to allow sufficient time to clear security. A virtual attendance option is not available for this meeting however, FMCSA will be affording additional engagement opportunities in the future which may include virtual attendance options.

FOR FURTHER INFORMATION CONTACT:

Alex Vanjani, Director, Office of the Chief Technology Officer (CTO), FMCSA, 1200 New Jersey Avenue SE, Washington, DC 20590-0001; (202) 510-7826; Alex.Vanjani@dot.gov.

Supreet Kaur, Project Manager, Office of the CTO, FMCSA, 1200 New Jersey Avenue SE, Washington, DC 20590-0001; (202) 748-1204; Supreet.Kaur@dot.gov.

Services for individuals with disabilities: For information on facilities or services for individuals with disabilities or to request special assistance at the meeting, contact Alex Vanjani or Supreet Kaur using one of the above means by 11:59 p.m. EST, on January 8, 2024.

SUPPLEMENTARY INFORMATION:

Background

FMCSA is developing a new online registration system, to improve the transparency and efficiency of FMCSA's registration procedures as well as implement statutory requirements related to the registration program. FMCSA seeks user perspectives on improving the registration experience when engaging with FMCSA's registration system. During this meeting, FMCSA will invite attendees to participate in breakout sessions that will align with different groups of users the Agency expects will use the new online registration system. FMCSA moderators will facilitate discussions on what potential users would like to see, as well as what would not be helpful from a user experience perspective. The day will end with a general listening session, where FMCSA representatives will receive comments and concerns about a new online registration system.

Meeting Information

This meeting is intended for current and potential users of a new online registration system. Breakout sessions will focus on the following categories of registration IT system users:

• Motor carriers;

• Brokers and freight forwarders;

• Insurance companies/financial institutions and process agents/blanket companies; and

• Third party service providers.

The full meeting agenda will be available on the registration site (see ADDRESSES above for instructions on meeting registration) in advance of the meeting.

Robin Hutcheson,
Administrator.

[FR Doc. 2023-28362 Filed 12-22-23; 8:45 am]

BILLING CODE 4910-EX-P